DEPARTMENT OF HEALTH AND HUMAN SERVICES

Administration for Children and Families

Submission for OMB Review; Comment Request

Title: Implementation of the Head Start National Reporting System on Child Outcomes.

OMB No.: 0970-0249.

Description: The Administration on Children, Youth and Families (ACYF), Administration for Children and Families (ACF) of the Department of Health and Human Services (HHS) is requesting comments on plans to implement the Head Start National Reporting System on Child Outcomes. This information will be used to enhance Head Start program quality and accountability.

The Head Start National Reporting System (HSNRS) has three major goals. First, the HSNRS will provide teachers and local programs with additional information regarding children's progress by reporting on how children are doing at the beginning and end of the program year in a limited number of areas. Second, the HSNRS will create a new national system of data on child outcomes form every local Head Start agency for use in planning targeted training and technical assistance services to strengthen program effectiveness. Third, the HSNRS will be used by ACF to help in the monitoring of local Head Start agencies in order to strengthen program accountability and improve program quality.

This effort will ensure that every Head Start program will assess in a consistent fashion the progress made by children in acquiring a limited set of early literacy, language, and numeracy skills. All Head Start children who are four years old or older will be administered a direct child assessment twice a year, the data analyzed, and the finding reported to the Head Start Bureau, ACF Regional Offices and local Head Start agencies. The NSNRS assessment is designed to create aggregate data on the progress or groups of children at the center and program levels. It is not designed to report on the school readiness of individual Head Start children.

Respondents: Head Start children and Head Start staff.

Annual Burden Estimates

Estimated Annual Response Burden to Implement the Head Start National Reporting System on Child Outcomes
Respondents and activities | Number of respondents | Number of responses per respondent | Average burden hours per response | Total burden hours
Head Start Children: Complete Direct Assessments | 500,000 | 2 | ⅓ | 333,333
Head Start Staff: Administer Direct Assessments | 36,000 | 14 × 2 | ⅓ | 336,000
Head Start Staff: Enter Child Demographic Information | 36,000 | 13.9 | 1/30 | 16,666
Head Start Staff: Enter Teacher Background Information | 36,000 | 1 | 1/60 | 600
Head Start Staff: Participating in Summer Training | 3,000 | 1 | 24 | 72,000
Head Start Staff: Training Local Assessors for the Direct Child Assessment | 3,000 | 1 | 20 | 60,000
Head Start Staff: Receiving Training for the Direct Child Assessments | 36,000 |  | 8 | 288,000
Head Start Local Training Staff: Fall Implementation Evaluation Form | 3,000 | 2 | 1/12 | 500
Head Start Local Program Staff: Focus Groups | 600 | 2 | 1 | 1,200
Head Start Local Program Staff: Interview | 180 | 2 | 1 | 360
Spring Refresher Training (Home Study): Trainers | 3,000 | 1 | 8 | 24,000
Spring Refresher Training (Home Study): Assessors | 36,000 | 1 | 4 | 144,000
Totals Annualized |  |  |  | 1,276,659

Additional Information: Copies of the proposed collection may be obtained by writing to the Administration for Children and Families, Office of Administration, Office of Information Services, 370 L'Enfant Promenade, SW., Washington, DC 20447, Attn: ACF Reports Clearance Officer. E-mail address: rsargis@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following:

Office of Management and Budget, Paperwork Reduction Project, 725 17th Street, NW., Washington, DC 20503, Attn: Desk Officer for ACF, E-mail address: lauren_wittenberg@omb.eop.gov.

Dated: June 17, 2003.
Robert Sargis,
Reports Clearance Officer.

[FR Doc. 03-15658 Filed 6-19-03; 8:45 am]

BILLING CODE 4184-01-M